DEPARTMENT OF LABOR

Employment and Training Administration

[TA-W-53,355]

Fairchild Semiconductor, Mountaintop, PA; Notice of Termination of Investigation

Pursuant to section 221 of the Trade Act of 1974, as amended, an investigation was initiated on October 27, 2003 in response to a petition filed by a company official on behalf of workers at Fairchild Semiconductor, Mountaintop, Pennsylvania.

The petitioning group of workers is covered by an earlier petition instituted on October 24, 2003 (TA-W-53,335), that is the subject of an ongoing investigation for which a determination has not yet been issued. Further investigation in this case would duplicate efforts and serve no purpose; therefore the investigation under this petition has been terminated.

Signed at Washington, DC this 6th day of November, 2003.
Linda G. Poole,
Certifying Officer, Division of Trade Adjustment Assistance.

[FR Doc. 03-29382 Filed 11-24-03; 8:45 am]

BILLING CODE 4510-30-P